DEPARTMENT OF HEALTH AND HUMAN SERVICES

Administration for Community Living

Administration on Intellectual and Developmental Disabilities (AIDD); Notice of Meeting via Conference Call

AGENCY: President's Committee for People with Intellectual Disabilities (PCPID), HHS.

ACTION: Notice of Meeting via Conference Call.

DATES: Wednesday, February 27, 2013, from 1:30 p.m. to 3:00 p.m. EST. This meeting to be held via audio conference call, is open to the public.

Details for accessing the full Committee Conference Call, for the public, are cited below:

Toll Free Dial-In Number: 800-988-9688.

Pass Code: 2847971.

Individuals whose full participation in the conference call will require reasonable accommodations (e.g., sign language interpreting services, assistive listening devices, materials in alternative format such as large print or Braille) should notify Madjid Karimi, PCPID Program Analyst, via email at MJ.Karimie@acl.hhs.gov, or via telephone at 202-619-0634, no later than Wednesday, February 20, 2013. PCPID will attempt to meet requests for accommodations made after that date, but cannot guarantee ability to grant requests received after this deadline.

Agenda: Committee members will: (a) Finalize the submission process of the 2012 Report to the President; and (b) discuss plans for developing the PCPID 2013 Report to the President.

Additional Information: For further information, please contact Madjid Karimi, Program Analyst, President's Committee for People with Intellectual Disabilities, 200 Independence Avenue, SW., Room 637D, Washington, DC 20201. Telephone: 202-619-0634. Fax: 202-260-3053. Email: MJ.Karimie@acl.hhs.gov.

SUPPLEMENTARY INFORMATION: PCPID acts in an advisory capacity to the President and the Secretary of Health and Human Services, through the Administration on Intellectual and Developmental Disabilities, on a broad range of topics relating to programs, services and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: January 9, 2013.
Kathy Greenlee,
Administrator.

[FR Doc. 2013-00661 Filed 1-14-13; 8:45 am]

BILLING CODE 4154-01-P